FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 21, 2003.

A. Federal Reserve Bank of Chicago (Phillip Jackson, Applications Officer) 230 South LaSalle Street, Chicago, Illinois 60690-1414:

1. Scott and Nancy Taylor, Estherville, Iowa; to acquire additional voting shares of NorthStar Bancshares, Inc., Estherville, Iowa, and thereby indirectly acquire additional voting shares of NorthStar Bank, Estherville, Iowa,

B. Federal Reserve Bank of Minneapolis (Richard M. Todd, Vice President and Community Affairs Officer) 90 Hennepin Avenue, Minneapolis, Minnesota 55480-0291:

1. Gary M. McKellips Revocable Trust, Gary McKellips trustee, both of Alcester, South Dakota; and the Debra K. McKellips Revocable Trust, Debra McKellips trustee, both of Alcester, South Dakota; to retain voting shares of First State Banking Corp., Alcester, South Dakota, and thereby retain voting shares of State Bank of Alcester, Alcester, South Dakota.

Board of Governors of the Federal Reserve System, July 1, 2003.
Jennifer J. Johnson,
Secretary of the Board.

[FR Doc. 03-17141 Filed 7-7-03; 8:45 am]

BILLING CODE 6210-01-S